Title 3—

The President

Proclamation 9556 of December 16, 2016

Returning the Flag of the United States to Full-Staff

By the President of the United States of America

A Proclamation

By the authority vested in me by the Constitution and the laws of the United States of America, I hereby order that the flag of the United States shall be flown at full-staff at the White House and upon all public buildings and grounds, at all military posts and naval stations, and on all naval vessels of the Federal Government in the District of Columbia and throughout the United States and its Territories and possessions beginning at sunset, December 17, 2016. I also direct that the flag shall be flown at full-staff on such day at all United States embassies, legations, consular offices, and other facilities abroad, including all military facilities and naval vessels and stations.

IN WITNESS WHEREOF, I have hereunto set my hand this sixteenth day of December, in the year of our Lord two thousand sixteen, and of the Independence of the United States of America the two hundred and forty-first.

[FR Doc. 2016-30953

Filed 12-20-16; 11:15 am]

Billing code 3295-F7-P